DEPARTMENT OF LABOR

Employment and Training Administration

[NAFTA—03516, et al.]

Delphax Corporation; A Xerox Company, Canton, Massachusetts, etc.

In the matter of: Delphax Corporation, a Xerox Company, Canton, Massachusetts; Including Leased Workers of: Accountemps, Braintree, Massachusetts; Judge Technical Service, Needham, Massachusetts; MMD Temps, Natick, Massachusetts; TAC Engineering, Newton, Massachusetts; New England Engineers & Design, Norwood, Massachusetts; Prosource, Waltham, Massachusetts; Strategy Tech Services, Westboro, Massachusetts; TAC Staffing, Dedham, Massachusetts; Techaid, Waltham, Massachusetts; Technical Personnel Services, Andover, Massachusetts; Winter, Wyman, Boston, Massachusetts, NAFTA—03516A, Delphax Corporation, A Xerox Company, Salem, New Hampshire, NAFTA—03516B; Delphax Corporation, A Xerox Company; Farmington, Connecticut.

Amended Certification Regarding Eligibility to Apply for NAFTA-Transitional Adjustment Assistance

In accordance with section 250(a), Subchapter D, Chapter 2, Title II, of the Trade Act of 1974 (19 USC 2273), the Department of Labor issued a Certification for NAFTA Transitional Adjustment Assistance on June 3, 1999, applicable to workers of Delphax Corporation, A Xerox Company, Canton, Massachusetts, including its leased workers from the following firms: Accountemps; Judge Technical Service; MMD Temps; TAC engineering; New England Engineers & Design; ProSource, Strategy Tech Services; TAC Staffing; TechAid; Technical Personnel Services; and Winter, Wyman. The notice was published in the Federal Register on December 28, 1999 (64 FR 72693).

At the request of the company, the Department reviewed the certification for workers of the subject firm. New information received from the company shows that worker separations occurred at the Salem, New Hampshire and Farmington, Connecticut locations of Delphax Corporation. A Xerox Company, when they close in March and April, 2000 respectively. The workers provided engineering, support services, sales and marketing services to support the production of printers (DocuPrint 900/1300 models) at the Canton, Massachusetts facility.

The intent of the Department's certification is to include all workers of Delphax Corporation, A Xerox Company, who were adversely affected by a shift of production to Canada.

Accordingly, the Department is amending the certification to include workers of Delphax Corporation, A Xerox Company, Salem, New Hampshire and Farmington, Connecticut locations.

The amended notice applicable to NAFTA-03516 is hereby issued as follows:

“All workers of Delphax Corporation, A Xerox Company, Canton, Massachusetts and all temporary workers of Accountemps; Judge Technical Services; MMD Temps; TAC Engineering; New England Engineers & Design; ProSource; Strategy Tech Services; TAC Staffing; TechAid; Technical Personnel Services; and Winter, Wyman (NAFTA-0316) engaged in employment related to the production of printers (DocuPrint 900/1300 models) at the Canton, Massachusetts facility, and all workers of Delphax Corporation, A Xerox Company, Salem, New Hampshire (NAFTA-03516A) and Farmington, Connecticut (NAFTA-3516B) who became totally or partially separated from employment on or after October 12, 1998 through November 18, 2001 are eligible to apply for NAFTA-TAA under Section 250 of the Trade Act of 1974.”

Signed at Washington, D.C. this 3rd day of April, 2000.
Grant D. Beale,
Program Manager, Division of Trade Adjustment Assistance.

[FR Doc. 00-8917 Filed 4-10-00; 8:45 am]

BILLING CODE 4510-30-M